DEPARTMENT OF HEALTH AND HUMAN SERVICES

Centers for Disease Control and Prevention

Study Team for the Los Alamos Historical Document Retrieval and Assessment (LAHDRA) Project

The Centers for Disease Control and Prevention (CDC) and the Agency for Toxic Substances and Disease Registry (ATSDR) announces the following meeting.

Name: Public Meeting of the Study Team for the Los Alamos Historical Document Retrieval and Assessment Project.

Time and Date: 9 a.m.-4 p.m., (Mountain Time), Thursday, January 28, 2010.

Place: OHKAY Casino/Resort/Conference Center (2 miles north of Espanola on US 84/285), P.O. Box 1270, Highway 68 Espanola, New Mexico 87506, telephone (505) 747-5523, facsimile (877) 747-5695. See following url/link for area map: http://www.ohkay.com/contactus.html.

Status: Open to the public, limited only by the space available. The meeting room accommodates approximately 200 people.

Background: Under a Memorandum of Understanding (MOU) signed in December 1990 with the Department of Energy (DOE) and replaced by MOUs signed in 1996 and 2000, the Department of Health and Human Services (HHS) was given the responsibility and resources for conducting analytic epidemiologic investigations of residents of communities in the vicinity of DOE facilities, workers at DOE facilities, and other persons potentially exposed to radiation or to potential hazards from non-nuclear energy production use. HHS delegated program responsibility to CDC and ATSDR.

In addition, a memo was signed in October 1990 and renewed in November 1992, 1996, and in 2000, between the Agency for Toxic Substances and Disease Registry (ATSDR) and DOE. The MOU delineates the responsibilities and procedures for ATSDR's public health activities at DOE sites required under sections 104, 105, 107, and 120 of the Comprehensive Environmental Response, Compensation, and Liability Act (CERCLA or a Superfund). These activities include health consultations and public health assessments at DOE sites listed on, or proposed for, the Superfund National Priorities List and at sites that are the subject of petitions from the public; and other health-related activities such as epidemiologic studies, health surveillance, exposure and disease registries, health education, substance-specific applied research, emergency response, and preparation of toxicological profiles.

Purpose: This ChemRisk study group was charged with locating, evaluating, cataloguing, and copying documents that contain information about historical chemical or radionuclide releases from facilities at the Los Alamos National Laboratory since its inception. The purpose of this meeting is to update the report based on comments received to date, to discuss progress to date, provide a forum for community interaction, and serve as a vehicle for members of the public to express concerns and provide comments to CDC.

Matters To Be Discussed: Agenda items include an update presentation from the National Center for Environmental Health (NCEH) and its contractor regarding comments on the LAHDRA project's draft final report. The meeting will include an opening session and update in the morning session with an optional workshop in the afternoon in which attendees can express concerns and comments with subject matter experts.

There will be time for public input, questions, and comments throughout the workshop sessions. All agenda items are subject to change as priorities dictate.

Contact Person for Additional Information: Phillip R. Green, Public Health Advisor, Radiation Studies Branch, Division of Environmental Hazards and Health Effects, NCEH, CDC, 4770 Buford Highway, NE., (Mailstop F-58), Atlanta, Georgia 30341-3717, telephone (770) 488-3748, facsimile (770) 488-1539, e-mail address: prg1@cdc.gov.

Dated: January 7, 2010.
Tanja Popovic,
Chief Science Officer, Centers for Disease Control and Prevention.

[FR Doc. 2010-501 Filed 1-12-10; 8:45 am]

BILLING CODE 4163-18-P